DEPARTMENT OF LABOR

Employment and Training Administration

[TA-W-60,121]

Leggett & Platt, Inc.; Branch 0003 & 3609; Ennis, TX; Notice of Termination of Investigation

Pursuant to section 221 of the Trade Act of 1974, as amended, an investigation was initiated on September 21, 2006 in response to a worker petition filed by a company official on behalf of workers of Leggett & Platt, Inc., Branch 0003 & 3609, Ennis, Texas.

The petitioner has requested that the petition be withdrawn. Consequently, the investigation has been terminated.

Signed at Washington, DC, this 10th day of October 2006.
Linda G. Poole,
Certifying Officer, Division of Trade Adjustment Assistance.

[FR Doc. E6-17121 Filed 10-13-06; 8:45 am]

BILLING CODE 4510-30-P